DEPARTMENT OF HEALTH AND HUMAN SERVICES

Centers for Disease Control and Prevention

[60Day-15-0650; Docket No. CDC-2015-0064]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the Prevention Research Centers Program National Evaluation Reporting System. The information collection system is designed to monitor progress on a set of evaluation indicators; demonstrate public health impact and accountability to Congress, CDC leadership, partner organizations, and communities; increase PRC Program visibility; generate knowledge and share information within and outside the PRC Program; and facilitate PRC Program improvement.

DATES: Written comments must be received on or before October 13, 2015.

ADDRESSES: You may submit comments, identified by Docket No. CDC-2015-0064 by any of the following methods: Federal eRulemaking Portal: Regulation.gov. Follow the instructions for submitting comments.

Mail: Leroy A. Richardson, Information Collection Review Office, Centers for Disease Control and Prevention, 1600 Clifton Road, NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Prevention Research Centers Program National Evaluation Reporting System (OMB No. 0920-0650, exp. 5/31/2016)—Revision—National Center for Chronic Disease Prevention and Health Promotion (NCCDPHP), Centers for Disease Control and Prevention (CDC).

Background and Brief Description

In 1984, Congress passed Public Law 98-551 directing the Department of Health and Human Services (DHHS) to establish Centers for Research and Development of Health Promotion and Disease Prevention. In 1986, the CDC received lead responsibility for this program, referred to as the Prevention Research Centers (PRC) Program. PRC Program awardees are managed as a CDC cooperative agreement with awards made for five years.

In 2013, the CDC published program announcement DP14-001 for the current PRC Program funding cycle (September 30, 2014—September 29, 2019). Twenty-six PRCs were selected through a competitive, external, peer-review process; the program is currently in its first year of the five year funding cycle.

Each PRC is housed within an accredited school of public health or an accredited school of medicine or osteopathy with a preventive medicine residency program. The PRCs conduct outcomes-oriented, applied prevention research on a broad range of topics using a multi-disciplinary and community-engaged approach. Research projects involve faculty from the funded school and various departments within the university, as well as community partners. Partners include, but are not limited to, state, local, and tribal health departments, departments of education, schools and school districts, community-based organizations, health providers, and other health organizations. Partners collaborate with the PRCs to assess community needs; identify research priorities; set research agendas; conduct research projects and related activities such as training and technical assistance; and disseminate research results to public health practitioners, researchers, and the general public.

Each PRC receives funding from the CDC to establish its core infrastructure and functions and support a core research project. Core research foci reflect each PRC's area of expertise and community needs. Most PRC core research aligns with the health disparities and goals outlined in Healthy People 2020. In addition to core research projects, most PRCs are awarded funding to complete special interest projects (SIPs) and conduct other research projects.

The DP14-001 program announcement included language that was used to develop and operationalize a set of 24 PRC Program evaluation indicators. The PRC Program evaluation indicators were collaboratively developed in 2013 and 2014 with internal and external stakeholders and correspond to the PRC Program conceptual framework (or logic model). The PRC Program logic model identifies program inputs, activities, outputs, and outcomes. The list of indicators was revised to better reflect program needs and capture center and research activities, outputs, and outcomes.

The CDC is currently approved to collect information from the PRCs through a structured telephone interview and a web-based survey hosted by a third-party. The web-based survey is designed to collect information on the PRCs' collaborations with health departments; formal training programs and other training activities; and other-funded research projects conducted separate from their core projects or SIP research. Structured telephone interviews with key PRC informants allow PRC Program staff to collect indicator data that do not lend themselves to a survey-based methodology and require a qualitative approach.

CDC requests OMB approval to revise the information collection plan as follows:

(1) The content of the web-based survey will be updated to more closely align with revised evaluation indicators and/or to reflect the current needs of the PRC Program. In addition, the web-based survey will be migrated from a third party platform to a web-based data collection system hosted on CDC servers. Although the estimated burden per response will increase, the revised data collection system will be comprehensive and will reduce the need for follow-up clarification by PRC Program awardees.

(2) CDC will continue to conduct annual interviews (herein key informant interviews) with PRC staff to capture qualitative data about PRC activities and outcomes; however, the content of the in-depth interview will vary from year to year. In the previous OMB approval period, the annual interview focused on implementation of environmental and systems-wide strategies. CDC will continue to collect this information on a bi-annual basis (Key Informant Interview Part I). In alternate years, interview content will focus on PRC partnerships (Key Informant Interview Part II).

(3) CDC will bi-annually conduct focus group discussions to capture additional qualitative information about network formation and cohesion. Bi-annually, PRC Program awardees will be required to participate in focus group discussions about PRC Network formation and cohesion. In the same years, PRC Program awardees will be invited and encouraged, but not required, to participate in focus group discussions about Thematic Network formation and cohesion.

CDC will continue to use the information reported by PRCs to identify training and technical assistance needs, respond to requests for information from Congress and other sources, monitor grantees' compliance with cooperative agreement requirements, evaluate progress made in achieving goals and objectives, and describe the impact and effectiveness of the PRC Program.

The CDC currently funds 26 PRCs and each center will annually report the required information to the CDC. The annualized estimated burden is expected to increase. This increase equates to an estimated weekly burden of one hour per respondent and more fully accounts for the burden of preparing responses, as well as the burden of reporting responses. Web-based data collection will occur on an annual basis. The Key Informant Interview (Part I) will be conducted in years 2 and 4 of the current funding cycle, and the Key Informant Interview (Part II) will be conducted in year 3 of the current funding cycle. During the three-year OMB approval period, this equates to two Part I interviews and one Part II interview per PRC Program awardee. Both focus group discussions will take place in years 2 and 4 of the current funding cycle. This equates to one PRC Network focus group discussion and one Thematic Network focus group discussion per PRC Program awardee during the three year OMB approval period. Responses are annualized in the burden table below.

The proposed web-based data collection system will allow data entry during the entire year, which will enable respondents to distribute burden throughout each funding year. Response burden may decrease significantly in years 2 through 5, since the web-based data collection system will replicate a number of data elements from year to year, and respondents will only need to enter changes.

OMB approval is requested for 3 years. CDC plans to implement revised reporting requirements in December 2015. PRC Program awardees are required to participate in information collection. There are no costs to respondents other than their time.

Estimated Annualized Burden Hours
Type of respondent | Form name | Number of respondents | Number of responses per respondent | Average burden per response (in hrs.) | Total burden (in hrs.)
Prevention Research Center | Web-based Data Collection | 26 | 1 | 48 | 1,248
| Key Informant Interview (Part I) | 17 | 1 | 3 | 51
| Key Informant Interview (Part II) | 9 | 1 | 3 | 27
| Focus Group Discussion: PRCs Network | 17 | 1 | 3 | 51
| Focus Group Discussion: Thematic Networks | 17 | 1 | 3 | 51
Total |  |  |  |  | 1,428

Leroy A. Richardson,
Chief, Information Collection Review Office, Office of Scientific Integrity, Office of the Associate Director for Science, Office of the Director, Centers for Disease Control and Prevention.

[FR Doc. 2015-19799 Filed 8-11-15; 8:45 am]

BILLING CODE 4163-18-P